DEPARTMENT OF THE TREASURY

Office of Foreign Assets Control

31 CFR Part 586

Publication of Chinese Military-Industrial Complex Sanctions Regulations Web General Licenses 1, 1A, 1B, and 2

AGENCY: Office of Foreign Assets Control, Treasury.

ACTION: Publication of web general licenses.

SUMMARY: The Department of the Treasury's Office of Foreign Assets Control (OFAC) is publishing four general licenses (GLs) issued in the Chinese Military Industrial Complex program: GLs 1, 1A, 1B, and 2, each of which was previously made available on OFAC's website.

DATES: GL 1 was issued on January 8, 2021. See SUPPLEMENTARY INFORMATION for additional relevant dates.

FOR FURTHER INFORMATION CONTACT: OFAC: Assistant Director for Licensing, 202-622-2480; Assistant Director for Regulatory Affairs, 202-622-4855; or Assistant Director for Compliance, 202-622-2490.

SUPPLEMENTARY INFORMATION:

Electronic Availability

This document and additional information concerning OFAC are available on OFAC's website: https://ofac.treasury.gov.

Background

On January 8, 2021, OFAC issued GL 1 to authorize certain transactions otherwise prohibited by Executive Order (E.O.) 13959 of November 12, 2020, “Addressing the Threat From Securities Investments That Finance Communist Chinese Military Companies” (85 FR 73185, November 17, 2020). Subsequently, OFAC issued two further iterations of GL 1, each of which authorized activities otherwise prohibited pursuant to E.O. 13959 as amended by E.O. 13974 of January 13, 2021, “Amending Executive Order 13959—Addressing the Threat From Securities Investments That Finance Communist Chinese Military Companies” (86 FR 4875, January 19, 2021): on January 26, 2021, OFAC issued GL 1A, which superseded GL 1; and on May 18, 2021, OFAC issued GL 1B, which superseded GL 1A. Each of these GLs is now expired. On January 14, 2021, OFAC issued GL 2 to authorize certain transactions otherwise prohibited by E.O. 13959, as amended. Each GL was made available on OFAC's website (https://ofac.treasury.gov) when it was issued. The text of these GLs is provided below.

OFFICE OF FOREIGN ASSETS CONTROL

Executive Order 13959 of November 12, 2020

Addressing the Threat From Securities Investments That Finance Communist Chinese Military Companies

GENERAL LICENSE NO. 1

Authorizing Transactions Involving Securities of Certain Communist Chinese Military Companies

(a) Except as provided in paragraph (b) of this general license, all transactions and activities prohibited by section 1(a)(i) of Executive Order (E.O.) 13959 involving publicly traded securities, or any securities that are derivative of, or are designed to provide investment exposure to such securities, of an entity whose name closely matches the name of a Communist Chinese military company identified in the Annex to E.O. 13959 but that has not been listed on the Office of Foreign Assets Control's Non-SDN Communist Chinese Military Companies List, are authorized through 9:30 a.m. eastern standard time, January 28, 2021.

(b) This general license does not authorize any transactions or activities otherwise prohibited by E.O. 13959, any other E.O. or statute, or any part of 31 CFR chapter V.

Andrea Gacki,

Director, Office of Foreign Assets Control.

Dated: January 8, 2021.

OFFICE OF FOREIGN ASSETS CONTROL

Executive Order 13959 of November 12, 2020

Addressing the Threat From Securities Investments That Finance Communist Chinese Military Companies, as Amended

GENERAL LICENSE NO. 1A

Authorizing Transactions Involving Securities of Certain Communist Chinese Military Companies

(a) Except as provided in paragraph (b) of this general license, all transactions and activities prohibited by section 1(a) of Executive Order (E.O.) 13959, as amended by E.O. 13974 of January 13, 2021, involving publicly traded securities, or any securities that are derivative of, or are designed to provide investment exposure to such securities, of an entity whose name closely matches, but does not exactly match, the name of a Communist Chinese military company as defined by section 4(a) of E.O. 13959, as amended, are authorized through 9:30 a.m. eastern daylight time, May 27, 2021.

(b) This general license does not authorize:

(1) Any transactions or activities involving publicly traded securities, or any securities that are derivative of, or are designed to provide investment exposure to such securities, of entities identified in the Office of Foreign Assets Control's Non-SDN Communist Chinese Military Companies List (NS-CCMC List) pursuant to section 4(a)(iii) of E.O. 13959, as amended, as a subsidiary of a person determined to be a Communist Chinese military company, including entities added to the NS-CCMC List on January 8, 2021 (CNOOC Limited, China Mobile Limited, China Telecom Corporation Limited, China Unicom (Hong Kong) Limited).

Note to paragraph (b)(1): Pursuant to section 1(a)(ii) of E.O. 13959, as amended, prohibitions relevant to entities identified in the NS-CCMC List pursuant to section 4(a)(iii) of E.O. 13959, as amended, including entities added to the NS-CCMC List on January 8, 2021 (CNOOC Limited, China Mobile Limited, China Telecom Corporation Limited, China Unicom (Hong Kong) Limited), take effect beginning 9:30 a.m. eastern time on the date that is 60 days after such listing.

(2) Any transactions or activities otherwise prohibited by E.O. 13959, as amended, any other E.O. or statute, or any part of 31 CFR chapter V.

(c) Effective January 27, 2021, General License No. 1, dated January 8, 2021, is replaced and superseded in its entirety by this General License No. 1A.

Bradley T. Smith,

Acting Director, Office of Foreign Assets Control.

Dated: January 26, 2021.

OFFICE OF FOREIGN ASSETS CONTROL

Executive Order 13959 of November 12, 2020

Addressing the Threat From Securities Investments That Finance Communist Chinese Military Companies, as Amended

GENERAL LICENSE NO. 1B

Authorizing Transactions Involving Securities of Certain Communist Chinese Military Companies

(a) Except as provided in paragraph (b) of this general license, all transactions and activities prohibited by section 1(a) of Executive Order (E.O.) 13959, as amended by E.O. 13974 of January 13, 2021, involving publicly traded securities, or any securities that are derivative of, or are designed to provide investment exposure to such securities, of an entity whose name closely matches, but does not exactly match, the name of a Communist Chinese military company as defined by section 4(a) of E.O. 13959, as amended, are authorized through 9:30 a.m. eastern daylight time, June 11, 2021.

(b) This general license does not authorize:

(1) Any transactions or activities involving publicly traded securities, or any securities that are derivative of, or are designed to provide investment exposure to such securities, of entities identified in the Office of Foreign Assets Control's Non-SDN Communist Chinese Military Companies List (NS-CCMC List) pursuant to section 4(a)(iii) of E.O. 13959, as amended, as a subsidiary of a person determined to be a Communist Chinese military company, including entities added to the NS-CCMC List on January 8, 2021 (CNOOC Limited, China Mobile Limited, China Telecom Corporation Limited, China Unicom (Hong Kong) Limited).

Note to paragraph (b)(1): Pursuant to section 1(a)(ii) of E.O. 13959, as amended, prohibitions relevant to entities identified in the NS-CCMC List pursuant to section 4(a)(iii) of E.O. 13959, as amended, including entities added to the NS-CCMC List on January 8, 2021 (CNOOC Limited, China Mobile Limited, China Telecom Corporation Limited, China Unicom (Hong Kong) Limited), take effect beginning 9:30 a.m. eastern time on the date that is 60 days after such listing.

(2) Any transactions or activities otherwise prohibited by E.O. 13959, as amended, any other E.O. or statute, or any part of 31 CFR chapter V.

(c) Effective May 18, 2021, General License No. 1A, dated January 26, 2021, is replaced and superseded in its entirety by this General License No. 1B.

Bradley T. Smith,

Acting Director, Office of Foreign Assets Control.

Dated: May 18, 2021.

OFFICE OF FOREIGN ASSETS CONTROL

Executive Order 13959 of November 12, 2020

Addressing the Threat From Securities Investments That Finance Communist Chinese Military Companies, as Amended

GENERAL LICENSE NO. 2

Authorizing Securities Exchanges Operated by U.S. Persons To Engage in Transactions involving Securities of Communist Chinese Military Companies

(a) Except as provided in paragraph (b) of this general license, all transactions and activities by securities exchanges operated by U.S. persons prohibited by section 1(a)(ii) of Executive Order (E.O.) 13959, as amended by the E.O. of January 13, 2021, involving publicly traded securities, or any securities that are derivative of, or are designed to provide investment exposure to such securities, of any entity that is listed on the Office of Foreign Assets Control's Non-SDN Communist Chinese Military Companies List (NS-CCMC List) after 12:01 a.m. eastern standard time, January 14, 2021, are authorized through 12:01 a.m. eastern time on the date that is 365 days after the date the entity is listed on the NS-CCMC List.

(b) This general license does not authorize any transactions or activities otherwise prohibited by E.O. 13959, as amended, any other E.O. or statute, or any part of 31 CFR chapter V.

Andrea Gacki,

Director, Office of Foreign Assets Control.

Dated: January 14, 2021.

Andrea M. Gacki,
Director, Office of Foreign Assets Control.

[FR Doc. 2023-19133 Filed 9-5-23; 8:45 am]

BILLING CODE 4810-AL-P